NATIONAL FOUNDATION ON THE ARTS AND THE HUMANITIES

National Endowment for the Arts

Subject 30-Day Notice of a Tribal Consultation Meeting

AGENCY: National Endowment for the Arts, National Foundation on the Arts and the Humanities.

ACTION: Notice.

SUMMARY: The National Endowment for the Arts (NEA) is an independent federal agency whose funding helps to support cultural programs nationwide. Established in 1965, the NEA's operating budget in FY20 was $162 million, which is utilized in the form of project and partnership grants, special initiatives, and honorific fellowships to support arts learning, affirm and celebrate America's rich and diverse cultural heritage, and to extend and promote equal access to the arts in every community. On April 7, 2021, the NEA convened a Tribal Consultation with the goal of developing a formal Tribal Consultation Policy. The draft policy will be the basis of our August 10 consultation call. More information about the NEA's work with Native Arts and Culture is available here: https://www.arts.gov/impact/native-arts-and-culture.

DATES: Tuesday, August 10, 2021, 2:00-3:30 p.m. (EDT); Written comments must be sent by August 24, 2021.

ADDRESSES: The August 10 meeting will be held virtually, via Zoom. Tribal leaders may register to participate through https://www.zoomgov.com/webinar/register/WN_hWsn1IqERCWZOLN8m-uC_g to receive the Zoom link. Tribal communities also can submit written comments by August 24 to NativeArts@arts.gov with the subject line: “Comments for August 10, 2021 NEA Tribal Consultation Meeting.”

SUPPLEMENTARY INFORMATION: In alignment with the January 26, 2021 Presidential Memorandum on Tribal Consultation and Strengthening Nation-to-Nation Relationships and Executive Order 13175, NEA invites Tribal leaders to discuss their needs and concerns related to NEA resources and NEA's draft Tribal Consultation policy in this meeting. The draft NEA Tribal Consultation Policy and a framing document with supplemental readings can be downloaded on the agency's website:

1. Draft NEA Tribal Consultation Policy: https://www.arts.gov/sites/default/files/Tribal-Consultation-Policy-DRAFT-7.9.21.pdf.

2. Framing Document: https://www.arts.gov/sites/default/files/NEA-August-2021-Framing-Document.pdf.

NEA plans to consider this input for incorporation into our Tribal Consultation policy and support we provide to Tribal communities across the U.S. The meeting agenda will be:

1. Input on NEA's draft Tribal Consultation policy.

2. Barriers for tribal communities to access NEA resources.

FOR FURTHER INFORMATION CONTACT: Clifford Murphy, Director of Folk & Traditional Arts, phone: 202-682-5726, or by email to murphyc@arts.gov or NativeArts@arts.gov.

Reasonable Accommodation: Anyone who needs an interpreter or other accommodation should email Clifford Murphy, Director of Folk & Traditional Arts, phone: 202-682-5726, or by email to murphyc@arts.gov or NativeArts@arts.gov by 5:00 p.m. (EDT) on August 3, 2021.

Dated: July 7, 2021.
Meghan Jugder,
Support Services Specialist, Office of Administrative Services & Contracts, National Endowment for the Arts.

[FR Doc. 2021-14811 Filed 7-12-21; 8:45 am]

BILLING CODE 7537-01-P